DEPARTMENT OF COMMERCE

International Trade Administration

Solar Photovoltaic (PV) Panel Value Chain Industry Roundtable

AGENCY: International Trade Administration, Department of Commerce.

ACTION: Notice of a roundtable discussion on challenges and opportunities for strengthening the U.S. solar supply chain for photovoltaic (PV) panel manufacturing.

SUMMARY: Through this notice, the International Trade Administration (ITA) of the Department of Commerce announces a roundtable discussion with industry representatives and U.S. government officials. ITA invites applications from industry representatives to participate in the roundtable from existing manufacturers and prospective new market entrants, with products that are or will be produced in the United States in one or more of the following segments: Solar-grade polysilicon, silicon ingots, silicon wafers, solar cells, and solar modules.

DATES:

Event: The roundtable will be held on June 29, 2021 from 1:00 p.m. to 4:00 p.m., Eastern Daylight Time.

Event Registration: ITA will evaluate registrations based on the submitted information (see below) and inform applicants of selection decisions, which will be made on a rolling basis until 25 participants have been selected.

ADDRESSES: Event: The roundtable will be held via WebEx and the link for the meeting will be provided to registered participants.

FOR FURTHER INFORMATION CONTACT: Cora Dickson, Senior International Trade Specialist, ITA, at Cora.Dickson@trade.gov or (202) 482-6083

SUPPLEMENTARY INFORMATION: The International Energy Agency (IEA) forecasts that the world will add at least 145 gigawatts (GW) of solar capacity this year and 162 GW in 2022. The United States ranks second in the world for overall solar generation capacity and its solar deployment continues to grow exponentially, with around 20 GW added in 2020. Despite this large domestic demand for solar, U.S. manufacturers have experienced competitive challenges, and the United States has thus become more reliant on imports including for PV components such as solar cells.

The Department seeks individual input and views at the June 29, 2021 roundtable regarding the U.S. solar PV panel (module) value chain, including the following topics:

• The current state of upstream manufacturing for solar PV in the United States, including solar cells, silicon wafers, polysilicon, and other key materials and components of PV modules;

• The potential contribution of U.S. solar panel manufacturing towards the Biden Administration's overarching clean energy goals as set out in the Executive Order “Tackling the Climate Crisis at Home and Abroad;”

• Best practices and policy proposals to incentivize further investment in a responsible solar panel manufacturing supply chain in the United States; and

• How to ensure that future federal procurement of solar energy will maximize the deployment of solar panels made in the United States.

The event is closed to press and public. Industry participation is limited to 25 qualifying industry representatives. Officials from the Department of Energy, Department of State, and other relevant agencies will also be invited to participate in the discussion.

Selection

To attend, participants should submit the below information to Cora.Dickson@trade.gov by no later than June 22, 2021. ITA will evaluate registrations based on the submitted information (and based on the criteria below) on a rolling basis until 25 participants have been selected and inform applicants of selection decisions.

Applicants are encouraged to send representatives at a sufficiently senior level to be knowledgeable about their company's capabilities, interests and challenges in the U.S. solar PV value chain. Due to time constraints, there is a limit of one person to speak on behalf of each company. However, each selected participant may invite one additional person from their company as an observer.

Registrations should include the following information in their registration email:

• Name of attendee and short bio.

• Name of company and brief company description.

• A statement self-certifying how the company meets each of the following criteria:

1. It is not majority owned by a foreign government entity (or entities).

2. It is an existing manufacturer or prospective new market entrant, with products that are or will be produced in the United States in one or more of the following segments: Solar-grade polysilicon, silicon ingots, silicon wafers, solar cells, and solar modules.

3. The representative will be able to attend the entire roundtable.

Selection will be based on the following criteria:

• Suitability of the company's existing products in the solar PV value chain.

• Suitability of the company's experience in manufacturing in the United States.

• Suitability of the representative's position and biography to be able to engage in the conversation.

• Ability of the company to contribute to the roundtable's purpose of seeking individual input and views on the United States solar PV value chain, including whether the company may have conflicting interests or that its selection could hinder the effectiveness of the roundtable.

Dated: June 9, 2021.
Man Cho,
Deputy Director, Office of Energy and Environmental Industries.

[FR Doc. 2021-12555 Filed 6-14-21; 8:45 am]

BILLING CODE 3510-DR-P